DEPARTMENT OF ENERGY

Federal Energy Regulatory Commission

[Docket Nos. ER08-656-007; EL10-83-000]

Shell Energy North America (US), LP; Notice of Institution of Proceeding and Refund Effective Date

October 12, 2010.

On October 12, 2010, the Commission issued an order that instituted a proceeding in Docket No. EL10-83-000, pursuant to section 206 of the Federal Power Act (FPA), 16 U.S.C. 824e (2005), concerning the justness and reasonableness of Shell Energy North America (US), LP's market-based rate authority in the Central and Southwest balancing authority area. Shell Energy North America (US), LP, 133 FERC ¶ 61,033 (2010).

The refund effective date in Docket No. EL10-83-000, established pursuant to section 206(b) of the FPA, will be the date of publication of this notice in the Federal Register.

Kimberly D. Bose,
Secretary.

[FR Doc. 2010-26242 Filed 10-18-10; 8:45 am]

BILLING CODE 6717-01-P